DEPARTMENT OF DEFENSE

United States Marine Corps; Privacy Act of 1974; System of Records

AGENCY: United States Marine Corps, DoD.

ACTION: Notice to delete three systems of records.

SUMMARY: The U.S. Marine Corps is deleting three systems of records notices from its inventory of records systems subject to the Privacy Act of 1974, as amended (5 U.S.C. 552a).

DATES: Effective May 29, 2007.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records system notices for records systems subject to the Privacy Act of 1974 (5 U.S.C. 552a) as amended, have been published in the Federal Register and are available from the address above.

The U.S. Marine Corps proposes to delete three systems of records notices from its inventory of record systems subject to the privacy Act of 974 (5 U.S.C. 552a), as amended. The changes to the system of records are not within the purview of subsection (r) of the Privacy Act of 1974 (5 U.S.C. 552a), as amended, which requires the submission of new or altered systems reports.

Dated: May 22, 2007.
L.M. Bynum,
Alternate OSD Federal Register Liaison Officer, Department of Defense.

Deletions:

System identifier:

MMN00009

System name:

Military Police Information System (MILPINS) (October 22, 1999, 64 FR 57071).

Reason:

Information is now filed under NM05580-1, Security Incident System; NM08370-1, Weapons Registration, NM05512-1, Vehicle Parking Permit and License Control System and A0040-905 DASG, Defense Privately Owned Animal Record Files.

System identifier:

MMN00014

System name:

Work Measurement Labor Distribution Cards (November 4, 1999, 64 FR 60174).

Reason:

Information is now filed under NM12610-1, Hours of Duty Records (November 16, 2004, 69 FR 67138).

System identifier:

MMN00037

System name:

Library Patron File (January 4, 2000, 65 FR 291).

Reason:

Information combined in NM05070-1, Library Patron File (August 15, 2006, 71 FR 46899).

[FR Doc. 07-2638 Filed 5-25-07 8:45 am]

BILLING CODE 5001-06-M